COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee has received proposals to add to the Procurement List services to be furnished by nonprofit agencies employing persons who are blind or have other severe disabilities, and to delete commodities previously furnished by such agencies.

Comments must be received on or before: November 20, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Commissary Warehousing and Janitorial

United States Naval Academy, Annapolis, MD. NPA: ServiceSource, Inc., Alexandria, Virginia

Eyewear Prescription Service

VA Outpatient Clinic, Port Richey, FL. NPA: Winston-Salem Industries for the Blind, Winston-Salem, North Carolina

Grounds Maintenance

Fort McPherson, Fort McPherson, GA. NPA: WORKTEC, Jonesboro, Georgia

Management Services

Department of Housing & Urban Development, 909 1st Avenue, Suite 200, Seattle, WA. NPA: Pacific Coast Community Services, Truckee, California

Recycling Service

Naval Weapons Station, NAWS Recycling Center, China Lake, CA. NPA: Desert Area Resources and Training, Ridgecrest, California

Deletions

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46-48c) in connection with the services proposed for deletion from the Procurement List.

The following commodities have been proposed for deletion from the Procurement List:

Cleaning Compound

7930-01-398-0945

Detergent, General Purpose

7930-01-393-6761

Enamel

8010-01-332-3739

Stepladder

5440-00-171-9836

5440-00-227-1592

5440-00-227-1593

5440-00-227-1594

5440-00-227-1595

5440-00-227-1596

Stepladder, Fiberglass

5440-01-415-1238

5440-01-415-1240

5440-01-415-1241

Rita L. Wells,
Deputy Executive Director.

[FR Doc. 00-27043 Filed 10-19-00; 8:45 am]

BILLING CODE 6353-01-P